DEPARTMENT OF ENERGY

Federal Energy Regulatory Commission

[Docket No. CP25-514-000; Docket No. CP25-517-000]

Tennessee Gas Pipeline Company, LLC; Southern Natural Gas Company, LLC; Elba Express Company, LLC: Notice of Schedule for the Final Order for the Mississippi Crossing Project and South System Expansion 4 Project

On June 30, 2025, Tennessee Gas Pipeline Company, LLC filed an application pursuant to section 7(c) of the Natural Gas Act (NGA) and part 157 of the Federal Energy Regulatory Commission's (Commission) regulations requesting authorization for the proposed Mississippi Crossing Project. On the same day, Southern Natural Gas Company, LLC and Elba Express Company, LLC filed an application pursuant to sections 7(b) and 7(c) of the NGA and part 157 of the Commission's regulations requesting authorization for the proposed South System Expansion 4 Project. On September 5, 2025, the Commission issued a Notice of Intent to Prepare an Environmental Impact Statement (EIS) establishing a schedule for the environmental review of the projects, including an anticipated issuance date for the final EIS of June 26, 2026.¹

¹ For tracking purposes under the National Environmental Policy Act, the unique identification number for documents relating to this environmental review is EISX-019-20-000-1751972052.

The projects are covered under Title 41 of the Fixing America's Surface Transportation Act (FAST-41). Under FAST-41, agencies are to publish completion dates for all federal environmental reviews and authorizations. This notice identifies the Commission's anticipated schedule for issuance of the final orders for the projects, which is based on the anticipated issuance date for the final EIS. We currently anticipate issuing the final orders no later than:

Issuance of Final Order—July 31, 2026

If a schedule change becomes necessary, additional notice will be provided so that interested parties and the relevant agencies are kept informed of the projects' progress.

(Authority: 18 CFR 2.1.)

Dated: December 31, 2025.
Debbie-Anne A. Reese,
Secretary.

[FR Doc. 2026-00020 Filed 1-5-26; 8:45 am]

BILLING CODE 6717-01-P